DEPARTMENT OF HOMELAND SECURITY

Coast Guard

33 CFR Part 100 and Part 165

[CGD13-05-029]

RIN 1625-AA08 and 1625-AA00

Special Local Regulation (SLR) and Safety Zone Regulations: Seattle Seafair Unlimited Hydroplane Race and Blue Angels Air Show Performance 2005, Lake Washington, WA

AGENCY: Coast Guard, DHS.

ACTION: Notice of enforcement.

SUMMARY: The Captain of the Port (COTP) Puget Sound will begin enforcing the Seattle Seafair Unlimited Hydroplane Race Special Local Regulation (SLR) and Seafair Blue Angels Air Show Performance Safety Zone Regulation. This year's events will be held on Thursday, August 4, 2005, through Sunday, August 7, 2005.

DATES: The regulations found in 33 CFR 100.1301 and in 33 CFR 165.1319 will be enforced from 8 a.m. to 8 p.m. Pacific daylight time from August 4, 2005 to August 7, 2005.

FOR FURTHER INFORMATION CONTACT: Lieutenant Junior Grade Jessica Hagen, c/o Captain of the Port Puget Sound, Coast Guard Sector Seattle, 1519 Alaskan Way South, Seattle WA 98134 at (206) 217-6232 to obtain information concerning enforcement of this rule.

SUPPLEMENTARY INFORMATION: On July 2, 2001, the Coast Guard published a final rule (66 FR 34822) modifying the regulations in 33 CFR 100.1301, for the safe execution of the Seattle Seafair Unlimited Hydroplane races on the waters of Lake Washington. On June 24, 2004, the Coast Guard published a final rule (69 FR 35250) in 33 CFR 165.1319, to safeguard participants and spectators from the safety hazards associated with the Seattle Seafair Blue Angels Air Show Performance.

The Special Local Regulation (33 CFR 100.1301) provides for a regulated area to protect spectators while providing unobstructed vessel traffic lanes to ensure timely arrival of emergency response craft. Movements are regulated for all vessels in the area described unless otherwise regulated by the COTP or his designee. The COTP may be assisted by other Federal, State, or local law enforcement agencies in enforcing this SLR.

The safety zone regulation (33 CFR 165.1319) establishes requirements for all vessels to obtain permission of the COTP or the COTP's designated representative to enter, move within, or exit the safety zone when it is enforced. Entry into this safety zone is prohibited unless otherwise exempted or excluded under 33 CFR 165.1319 or unless authorized by the COTP or his designee. The Captain of the Port Puget Sound will begin enforcing the Seattle Seafair Unlimited Hydroplane Race Special Local Regulation (SLR) as per 33 CFR 100.1301, and the Seafair Blue Angels Air Show Performance Safety Zone as per 33 CFR 165.1319, on Thursday, August 4, 2005 at 8 a.m. Pacific daylight time. These regulations will be enforced until Sunday, August 7, 2005 at 8 p.m. Pacific daylight time. All persons and vessels are authorized to enter, move within, and exit the regulated area or safety zone on or after Sunday, August 7, 2005 at 8 p.m. Pacific daylight time unless a new notice of enforcement is issued before then.

Dated: July 22, 2005.
Stephen P. Metruck,
Captain, U.S. Coast Guard, Captain of the Port, Puget Sound.

[FR Doc. 05-15309 Filed 8-2-05; 8:45 am]

BILLING CODE 4910-15-P